FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, 46 CFR part 515, effective on the corresponding date shown below:

License Number: 018304N.

Name: Comis International Inc.

Address: 690 Knox Street, Torrance, CA 90502.

Date Revoked: April 17, 2006.

Reason: Surrender license voluntarily.

License Number: 001744F.

Name: Export International, Inc. dba Houston Export International.

Address: 8106 Pella, Houston, TX 77036.

Date Revoked: March 31, 2006.

Reason: Failed to maintain a valid bond.

License Number: 019045N.

Name: Fleet Global Logistics (U.S.A.) Inc.

Address: 4144 East Wood Harbor Ct., Ste. 1, Richmond, VA 23231.

Date Revoked: April 1, 2006.

Reason: Failed to maintain a valid bond.

License Number: 003306F.

Name: Ford International Forwarding, Inc.

Address: 2 Washington Place, Tarrytown, NY 10591.

Date Revoked: April 17, 2006.

Reason: Surrendered license voluntarily.

License Number: 017848F.

Name: K2 International, LLC dba All-Ways Cargo Services.

Address: 2782 Eagandale Blvd., Eagan, MN 55121.

Date Revoked: March 9, 2006.

Reason: Surrendered license voluntarily.

License Number: 004657N.

Name: Ocean Transportation Services, LLC.

Address: 500 Union Street, Suite 701, Seattle, WA 98101-2369.

Date Revoked: April 13, 2006.

Reason: Surrendered license voluntarily.

Peter J. King,
Deputy Director, Bureau of Certification and Licensing.

[FR Doc. E6-6279 Filed 4-25-06; 8:45 am]

BILLING CODE 6730-01-P